DEPARTMENT OF THE INTERIOR

Bureau of Land Management

[LLCO923000 L13400000.KH0000]

Notice of Competitive Auction for Solar Energy Development on Public Lands in the State of Colorado

AGENCY: Bureau of Land Management, Interior.

ACTION: Notice.

SUMMARY: The Bureau of Land Management's (BLM) Colorado State Office will accept competitive bids to select a preferred applicant to submit a right-of-way (ROW) application and a plan of development for solar energy projects on approximately 3,705 acres of public land in Saguache and Conejos Counties in Colorado.

DATES: The BLM will hold an oral auction at the BLM's Colorado State Office on October 24, 2013. Prior to the oral auction, sealed bids will be accepted and will be carried to the oral auction. Sealed bids must be received, not postmarked, by the BLM Colorado State Office to the address listed below on or before October 15, 2013. The oral auction will begin at 10 a.m., opening with the minimum bonus bid or the highest sealed bid over the minimum bonus bid, whichever is higher. Bidder registration begins at 9 a.m. In order to bid, you must provide the bidder's name and personal or business address. Each bid can only contain the name of one bidder (i.e., citizen, association or partnership, corporation or municipality). An administrative fee of $48,169 is also required from each bidder for each parcel at registration. Sealed bids must include the same required information for registration. All registered bidders will be notified of the results of the oral auction within 10 calendar days of the bid closing. Bonus bids from the successful high bidder(s) must be deposited within 10 calendar days of notification. ROW applications, plans of development, and all associated information from the successful high bidder(s) must be received within 180 days of notification. If the successful high bidder does not deposit bonus bids or perfect their ROW application within the stated timeframes of this notice, the next highest bid will become the successful bidder.

ADDRESSES: Sealed bids, including all required administrative fee deposits and documentation must be submitted to the Bureau of Land Management, Attention: Maryanne Kurtinaitis, CO923, 2850 Youngfield Street, Lakewood, CO 80215. Electronic bid submissions will not be accepted. The BLM will hold the oral auction at the address listed above.

FOR FURTHER INFORMATION CONTACT: Maryanne Kurtinaitis, Renewable Energy Program Manager, by telephone at 303-239-3708 or by email at mkurtina@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: BLM Colorado has received several solicitations of interest and ROW applications within two designated Solar Energy Zones (SEZ): Los Mogotes East SEZ and De Tilla Gulch SEZ. Applications for solar energy development are processed as ROW authorizations pursuant to Title V of the Federal Land Policy and Management Act. Existing regulations authorize the BLM to determine whether competition exists among ROW applications filed for the same facility or system. 43 CFR 2804.23. The regulations also allow the BLM to resolve any such competition by using competitive bidding procedures.

The BLM will use a competitive sealed and oral bid process to select a preferred applicant to submit a ROW application and plan of development for solar energy development in the Los Mogotes East SEZ and the De Tilla Gulch SEZ. The successful high bidder(s) for any of the parcels of public land offered by this notice must be prepared to submit a ROW application (SF-299) and a plan of development, consistent with the requirements of the regulations and within the timeframes specified in this notice. 43 CFR 2804.12 and 2803.10. Bidders may submit bid packages for one or all three parcels of public land described below.

The public lands made available by this notice include one parcel called De Tilla Gulch SEZ, consisting of approximately 1,064 acres of public land within sections 29, 30, 31, 32, and 33 of T. 45 N., R. 9 E., New Mexico Principal Meridian, Saguache County, Colorado. This parcel lies approximately 7 miles east of the town of Saguache, Colorado. The second parcel called Los Mogotes East SEZ (north parcel), consists of approximately 1,281 acres of public land within sections 1 and 12 of T. 34 N., R. 8 E., New Mexico Principal Meridian, Conejos County, Colorado. This parcel lies three miles west of the town of Romeo, Colorado. The third parcel called Los Mogotes East SEZ (south parcel), consists of approximately 1,360 acres of public land within sections 13, 24, and 25 of T. 34 N., R. 8 E., New Mexico Principal Meridian, Conejos County, Colorado. This parcel lies 3 miles west of the town of Romeo, Colorado. Detailed information about the SEZs, including maps, can be viewed and downloaded at: http://solareis.anl.gov/maps/index.cfm.

If you are submitting a sealed bid prior to the oral auction, all bidding documents must be enclosed in a sealed envelope with your name and return address on the outside. Include the following notation on the front lower left hand corner: SEALED BID—DO NOT OPEN. An administrative fee of $48,169 is also required for each parcel for sealed bids and at registration from each bidder for the oral auction in the form of a cashier's or certified check made payable to the “Bureau of Land Management.” A minimum bonus bid has also been determined for each parcel. The minimum bonus bid represents 5 percent of the rent value of the land for 1 year ($63 per acre for Saguache and Conejos counties) under the BLM's interim solar rental policy and is based on the interests acquired by a preferred applicant to file a ROW application in a SEZ. Minimum bonus bids for the three parcels are: De Tilla Gulch—$3,352; Los Mogotes East (north parcel)—$4,035; and Los Mogotes East (south parcel)—$4,284. Bidders must use a bid statement to identify the bonus amount the bidder will pay for the right to submit a ROW application and plan of development. The bonus bid must meet or exceed the minimum bonus bid amount identified above for each parcel. The bid statement format and a complete description of the bid process are contained in an Invitation for Bids package available on the BLM Colorado Web site at: http://www.blm.gov/co/st/en/BLM_Programs/energy/renewable_energy.html.

The high bidder(s) will become the successful bidder(s) and must deposit the bonus bid specified in the bid statement within 10 calendar days of notification by the BLM that they are the successful bidder. Upon the BLM's acceptance of the bonus bid specified in the bid statement, the successful bidder will become the preferred ROW applicant. The required administrative fee of the successful bidder(s) will be retained by the agency to recover administrative costs for conducting the competitive bid process. The bonus bid will be deposited with the U.S. Treasury. Neither amount will be returned or refunded to the successful high bidder(s) under any circumstance. All deposits made by unsuccessful bidders will be returned, without interest, upon the BLM's acceptance of the high bidder's bonus bid.

If there is no bid received for a parcel, then no preferred ROW applicant will be identified and no application will be processed for solar energy development under the procedures listed in this notice. If the BLM is unable to determine the successful bidder, such as in the case of a tie, the BLM may re-offer the lands competitively to the tied bidders, or to all prospective bidders.

The BLM will notify the successful high bidder(s) of the right to submit a ROW application and plan of development within 180 calendar days of the bid closing. Preferred ROW applicants will be required to reimburse the United States for the cost of processing an application consistent with the requirements of the regulations at 43 CFR 2804.14. The fees are based on the amount of time the BLM estimates it will take to process the ROW application and issue a decision. The BLM will begin processing the ROW application once the cost recovery fees are received as required by the regulations.

Authority: 43 CFR 2804.23.

Helen M. Hankins,
BLM Colorado State Director.

[FR Doc. 2013-20036 Filed 8-15-13; 8:45 am]

BILLING CODE 4310-JB-P